NATIONAL SCIENCE FOUNDATION

Committee Management; Renewal

The NSF management official having responsibility for the NSB Public Service Award Service (#5195) has determined that renewing this committee for another two years is necessary and in the public interest in connection with the performance of duties imposed upon the Director, National Science Foundation (NSF), by 42 USC 1861 et seq. This determination follows consultation with the Committee Management Secretariat, General Services Administration.

Authority for this Committee will expire on September 4, 2003, unless it renewed. For more information, please contact Susanne Bolton, NSF, at (703) 306-7488.

Dated: August 21, 2001.
Susanne Bolton,
Committee Management Officer.

[FR Doc. 01-21516 Filed 8-24-01; 8:45 am]

BILLING CODE 7555-01-M